DEPARTMENT OF ENERGY

Notice of Availability of Draft Guidance on Hydrogen and Fuel Cell Program: Guidance for the Clean Hydrogen Production Qualifications; Extension of Comment Period

AGENCY: Office of Energy Efficiency and Renewable Energy, Department of Energy.

ACTION: Notice of availability of draft guidance; reopening of public comment period.

SUMMARY: On September 28, 2022, the U.S. Department of Energy (DOE) published a notice of availability (NOA) on its Clean Hydrogen Production Standard (CHPS) Draft Guidance. The NOA provided an opportunity for submitting written comments on the draft guidance by October 20, 2022. DOE received requests to extend the comment period for an additional 60-90 days. DOE has reviewed these requests and is reopening the public comment period until November 14, 2022.

DATES: The comment period for the NOA published on September 28, 2022 (87 FR 58776) is reopened. Comments regarding this draft guidance must be received on or before November 14, 2022.

ADDRESSES: Comments on this draft guidance document must be provided in writing. Interested parties are to submit comments electronically to cleanh2standard@ee.doe.gov. Email attachments can be provided as a Microsoft Word (.docx) file or Adobe PDF (.pdf). The complete draft guidance document is located at https://www.hydrogen.energy.gov/pdfs/clean-hydrogen-production-standard.pdf.

FOR FURTHER INFORMATION CONTACT: Requests for additional information should be directed to Karen Dandridge at cleanh2standard@ee.doe.gov, (202) 586-3388.

SUPPLEMENTARY INFORMATION: On September 28, 2022, DOE published a NOA and requested comment on its Clean Hydrogen Production Standard (CHPS) Draft Guidance. (87 FR 58776). The NOA contained the initial proposal for the CHPS and established a target for the lifecycle (i.e., well-to-gate) emissions intensity of hydrogen production, based on the Infrastructure Investment and Jobs Act (IIJA) definition of the term “clean hydrogen” and other factors set forth in section 40315(b) of the IIJA.

DOE has received several requests to extend the public comment period for 60 and 90 days to help investigate the request and respond appropriately with considered comments given the importance of the standard and the amount of detailed information requested.

DOE has determined that reopening the public comment period for 25 days is appropriate to enable submission of robust information that can inform DOE's programs. Thus, DOE is reopening the comment period through November 14, 2022.

Signing Authority: This document of the Department of Energy was signed on October 17, 2022, by Dr. Geraldine Richmond, pursuant to delegated authority from the Secretary of Energy. That document with the original signature and date is maintained by DOE. For administrative purpose only, and in compliance with requirements of the Office of the Federal Register, the undersigned DOE Federal Register Liaison Office has been authorized to sign and submit the document in the electronic format for publication, as an official document of the Department of Energy. This administrative process in no way alters the legal effect of this document upon publication in the Federal Register.

Signed in Washington, DC, on October 19, 2022.
Treena V. Garrett,
Federal Register Liaison Officer, U.S. Department of Energy.

[FR Doc. 2022-23041 Filed 10-21-22; 8:45 am]

BILLING CODE 6450-01-P